NATIONAL TRANSPORTATION SAFETY BOARD

49 CFR Part 805

Notice of Rescission of Certain Regulations

AGENCY: National Transportation Safety Board (NTSB).

ACTION: Final rule.

SUMMARY: The NTSB's regulations on Employee Responsibilities and Conduct, located at 49 CFR part 805 (part 805), have been superseded by regulations of the Office of Government Ethics (OGE) issued pursuant to the provisions of the Ethics in Government Act of 1978, as amended, and codified at 5 CFR parts 2634 and 2635. Accordingly, the NTSB is rescinding part 805 in its entirety.

DATES: Effective Date: November 21, 2011.

FOR FURTHER INFORMATION CONTACT: William C. Love, NTSB Designated Agency Ethics Official, 490 L'Enfant Plaza East SW., Washington, DC 20594; telephone (202) 314-6088; email loveb@ntsb.gov.

SUPPLEMENTARY INFORMATION:

Background

In 1989, the President's Commission on Federal Ethics Law Reform recommended that individual agency standards of conduct be replaced with a single regulation applicable to all employees of the executive branch. Acting upon that recommendation, President Bush signed Executive Order 12674 on April 12, 1989, which was subsequently modified and restated by Executive Order 12731 (Executive Order), signed by President Bush on October 17, 1990. Section 201(a) of the Executive Order required the OGE to promulgate regulations that “establish a single, comprehensive, and clear set of executive-branch standards of conduct”. Accordingly, OGE published a final rule entitled “Standards of Ethical Conduct for Employees of the Executive Branch” (Standards) on August 7, 1992, with an effective date of February 3, 1993. The Standards, as amended, are codified at 5 CFR part 2635, and established uniform standards of ethical conduct applicable to all executive branch personnel.

Upon the effective date of the Standards, the NTSB's regulations contained in part 805, which relate to employee responsibilities and conduct, were superseded.

Rescission and Reservation

By this notice, the NTSB rescinds part 805 in its entirety, reserving such part for future use. The regulations contained in part 805 deal with employee responsibilities and conduct, and have been superseded by the Standards or by 5 CFR part 2634.

Administrative Procedure Act

The rescission of part 805 is exempt from the notice and comment procedure normally required by the Administrative Procedure Act. See 5 U.S.C. 553(a). Notice and comment before the effective date are being waived because this rule concerns matters of agency organization, practice and procedure.

Executive Orders 12866 and 12988

Because this rule relates to NTSB personnel, it is exempt from the provisions of Executive Orders Nos. 12866 and 12988.

Regulatory Flexibility Act

The NTSB has determined, pursuant to the Regulatory Flexibility Act, 5 U.S.C. chapter 6, that this rescission will not have a significant economic impact on a substantial number of small entities because it only affects NTSB employees.

Paperwork Reduction Act

The Paperwork Reduction Act, 44 U.S.C. chapter 35, does not apply to this rescission because it does not involve any collection of information subject to the approval of the Office of Management and Budget.

Congressional Review Act

The NTSB has determined that the rescission of the aforementioned regulations is not a rule as defined in 5 U.S.C. 804, and thus, does not require review by Congress.

List of Subjects in 49 CFR Part 805

Conflict of interest, Government employees, Standards of conduct.

The Amendment

In consideration of the foregoing, the National Transportation Safety Board amends chapter 8 of title 49, Code of Federal Regulations, as follows:

PART 805—[REMOVED AND RESERVED]

1. Remove and reserve part 805.

Dated: November 15, 2011.
Candi R. Bing,
Federal Register Liaison Officer.

[FR Doc. 2011-29835 Filed 11-18-11; 8:45 am]

BILLING CODE 7533-01-P